DEPARTMENT OF THE INTERIOR

Bureau of Land Management

[AK-023-00-1310-MQ-029L-241A]

Establishment of the National Petroleum Reserve—Alaska Research and Monitoring Advisory Team

AGENCY: Bureau of Land Management (BLM), Interior.

ACTION: Notice of Establishment of the National Petroleum Reserve—Alaska Research and Monitoring Advisory Team

SUMMARY: This notice is published in accordance with section 9(a) of the Federal Advisory Committee Act of 1972 (Pub. L. 92-463). Following consultation with the General Services Administration, notice is hereby given that the Secretary of the Interior has established the National Petroleum Reserve—Alaska Research and Monitoring Advisory Team. The purpose of the Team will be to advise and assist the Manager of the Bureau of Land Management's Northern Field Office on issues pertaining to the adequacy and appropriateness of mitigative stipulations established in the Northeast National Petroleum Reserve—Alaska Integrated Activity Plan/Environmental Impact Statement, Record of Decision of 1998.

The Team will be comprised of 11 members from the Bureau of Land Management; Minerals Management Service; Department of Energy, Office of Fossil Energy; U.S. Fish & Wildlife Service; U.S. Geological Survey—Biological Resources Division; Alaska Department of Fish and Game; North Slope Borough, Department of Wildlife Management; oil and gas, or related, industry; nationally or regionally recognized environmental or resource conservation organization; academicians employed in natural resource management or the natural sciences; and the public at large.

The duties of the Team will include identification of research and monitoring needs; recommendations on priorities for these needs; recommendations on standards and guidance as to what constitutes acceptable, valid studies; review of proposals for studies or actions to meet identified needs; review and evaluation of results and interpretations of ongoing and recently completed studies; synthesis of information gained; review of the BLM's mitigation plan for effectiveness and appropriateness; recommendations to the BLM on mitigation plan improvement; and evaluation of the adequacy of compliance with stipulations, determination of the reasons for observed inadequacies, and recommendations for change to the BLM.

FOR FURTHER INFORMATION CONTACT: Dr. David A. Yokel, Bureau of Land Management, Northern Field Office, 1150 University Avenue, Fairbanks, Alaska 99709, (907) 474-2314.

Certification Statement: I hereby certify that the National Petroleum Reserve—Alaska Research and Monitoring Advisory Team is in the public interest in connection with the Secretary of the Interior's responsibilities to manage the National Petroleum Reserve—Alaska, administered by the Bureau of Land Management.

Dated: November 6, 2000.
Bruce Babbitt,
Secretary of the Interior.

[FR Doc. 00-29922 Filed 11-21-00; 8:45 am]

BILLING CODE 4310-JA-P